DEPARTMENT OF LABOR

Employment and Training Administration

[TA-W-60,804]

Fedders North America, Inc., Including On-Site Workers of Airwell North America, Effingham, IL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 9, 2007 to workers of Fedders North America, Effingham, Illinois. The notice was published in the Federal Register on February 21, 2007 (72 FR 7908).

At the request of the State agency, the Department reviewed the certification for workers of the subject firm. The workers are engaged in the production of air conditioners, both room and central.

New information shows that Airwell North America purchased the name, distributor list, some inventory and parts of the Effingham, Illinois location of Fedders North America, Inc. Some former workers of the subject firm are currently employed with Airwell North America working on-site at the Effingham, Illinois location of Fedders North America and are performing the same duties.

Based on these findings, the Department is amending this certification to include all workers of Airwell North America, working on-site at the Effingham, Illinois location of the subject firm.

The intent of the Department's certification is to include all workers employed at Fedders North America, Inc., Effingham, Illinois who were adversely-impacted by increased company imports of air conditioners, both room and central.

The amended notice applicable to TA-W-60,804 is hereby issued as follows:

All workers of Fedders North America, Inc., including on-site workers from Airwell North America, Effingham, Illinois, who became totally or partially separated from employment on or after December 28, 2006, through February 9, 2009, are eligible to apply for adjustment assistance under Section 223 of the Trade Act of 1974, and are also eligible to apply for alternative trade adjustment assistance under Section 246 of the Trade Act of 1974.

Signed at Washington, DC this 25th day of March 2008.
Richard Church,
Certifying Officer, Division of Trade Adjustment Assistance.

[FR Doc. E8-8977 Filed 4-24-08; 8:45 am]

BILLING CODE 4510-FN-P